DEPARTMENT OF ENERGY

Federal Energy Regulatory Commission

[Docket Nos. CP02-374-000, CP02-376-000, CP02-377-000 and CP02-378-000]

Cameron LNG, LLC; Notice of Availability of the Final Environmental Impact Statement for the Proposed Hackberry LNG Project

August 14, 2003.

The staff of the Federal Energy Regulatory Commission (FERC or Commission) has prepared a final environmental impact statement (EIS) on the construction and operation of the liquefied natural gas (LNG) import terminal and natural gas pipeline facilities proposed by Cameron LNG, LLC (Cameron LNG) in the above-referenced docket.¹

¹ On May 12, 2003, Sempra Energy LNG Corporation filed a letter with the Commission stating that it had acquired Hackberry LNG Terminal, L.L.C. from Dynegy Midstream Services, Limited Partnership, and had changed the company's name to Cameron LNG, LLC.

The final EIS was prepared to satisfy the requirements of the National Environmental Policy Act (NEPA). The staff concludes that approval of the proposed project, with appropriate mitigating measures as recommended, would have limited adverse environmental impact. The final EIS also evaluates alternatives to the proposal, including system alternatives, alternative sites for the LNG import terminal, and pipeline alternatives.

The final EIS addresses the potential environmental effects of the construction and operation of the following facilities in Cameron, Calcasieu, and Beauregard Parishes, Louisiana:

• A ship unloading slip with two berths, each equipped with mooring and breasting dolphins, three liquid unloading arms, and one vapor return arm;

• Three LNG storage tanks, each with a usable volume of 1,006,000 barrels (3.5 billion standard cubic feet of gas equivalent);

• Nine first-stage pumps, each sized for 250 million standard cubic feet per day (MMscf/d);

• Ten second-stage pumps, each sized for 188 MMscf/d;

• Twelve submerged combustion vaporizers, each sized for 150 MMscf/d;

• A boil-off gas compressor and condensing system;

• An LNG circulation system;

• A natural gas liquids recovery unit;

• Ancillary utilities, buildings, and service facilities at the LNG terminal; and

• A 35.4-mile, 36-inch-diameter natural gas sendout pipeline.

The purpose of building these facilities is to transport approximately 1.5 billion cubic feet per day of imported natural gas to the United States market. As part of the proposed project, Cameron LNG plans to remove the existing liquefied petroleum gas facilities and associated dock at the proposed terminal site.

The final EIS has been placed in the public files of the FERC and is available for public inspection at:

Federal Regulatory Energy Commission, Public Reference and Files Maintenance Branch, 888 First Street, NE., Room 2A, Washington, DC 20426, (202) 502-8371.

A limited number of copies of the final EIS are available from the Public References and Files Maintenance Branch identified above. In addition, the final EIS has been mailed to Federal, state, and local agencies; elected officials; public libraries; newspapers; parties to the proceeding; and public interest groups, individuals, and affected landowners who requested a copy of the EIS.

In accordance with the Council on Environmental Quality's (CEQ) regulations implementing the NEPA, no agency decision on a proposed action may be made until 30 days after the U.S. Environmental Protection Agency publishes a notice of availability of a final EIS. However, the CEQ regulations provide an exception to this rule when an agency decision is subject to a formal internal appeal process which allows other agencies or the public to make their views known. In such cases, the agency decision may be made at the same time the notice of the final EIS is published, allowing both periods to run concurrently. The Commission decision for this proposed action is subject to a 30-day rehearing period.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659 or FERCOnlineSupport@ferc.gov. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notifications of these filings, document summaries, and direct links to the documents. Go to https://ferconline.ferc.gov/.

Magalie R. Salas,
Secretary.

[FR Doc. 03-21374 Filed 8-20-03; 8:45 am]

BILLING CODE 6717-01-P